DEPARTMENT OF HOMELAND SECURITY

Coast Guard

33 CFR Part 100

[Docket No. USCG-2014-0429]

Special Local Regulations; Marine Events in the Seventh Coast Guard District

AGENCY: Coast Guard, DHS.

ACTION: Notice of Enforcement of Regulation.

SUMMARY: The Coast Guard will enforce the special local regulations for two events, the Patriots Point Fireworks and the City of North Charleston Fireworks, from 8:15 p.m. through 10:15 p.m. on July 4, 2014. This action is necessary to ensure safety of life on navigable waters of the United States during the Fourth of July fireworks displays. During the enforcement period, and in accordance with previously issued special local regulations, vessels may not enter, transit through, anchor in, or remain within the designated area unless authorized by the Captain of the Port Charleston designated representatives.

DATES: The regulations in 33 CFR 100.701, Table 1, COTP Zone Charleston, will be enforced from 8:15 p.m. through 10:15 p.m. July 4, 2014.

FOR FURTHER INFORMATION CONTACT: If you have questions on this rule, call or email CWO Christopher Ruleman, Sector Charleston Office of Waterways Management, Coast Guard; telephone 843-740-3184, email christopher.l.ruleman@uscg.mil.

SUPPLEMENTARY INFORMATION: The Coast Guard will enforce the special local regulations for two events, the Patriots Point Fireworks and the City of North Charleston Fireworks, from 8:15 p.m. through 10:15 p.m. on July 4, 2014. The special local regulations for the events can be found at 33 CFR 100.701 in the COTP Zone Charleston section of Table 1.

On July 4, 2014, the Patriots Point Naval Maritime Museum is sponsoring the Patriots Point Firework on Charleston Harbor, South Carolina, and the City of North Charleston is sponsoring the City of North Charleston Fireworks on Charleston Harbor, South Carolina.

Under the provisions of 33 CFR 100.701, all persons and vessels are prohibited from entering the regulated areas unless permission to enter has been granted by the Captain of the Port Charleston. This notice of enforcement is to provide notice of regulated areas that will encompass portions of the navigable waterways. Spectator vessels may safely transit outside the regulated areas, but may not anchor, block, loiter in, or impede the transit of official patrol vessels. The Coast Guard may be assisted by other Federal, State, or local law enforcement agencies in enforcing these regulations.

This notice is issued under authority of 33 CFR 100.701 and 5 U.S.C. 552(a). The Coast Guard will provide notice of the regulated areas by Local Notice to Mariners, Broadcast Notice to Mariners, and on-scene designated representatives. If the COTP Charleston determines that the regulated area need not be enforced for the full duration stated in this notice, he or she may use a Broadcast Notice to Mariners to grant general permission to enter the regulated area.

Dated: June 8, 2014.
R. R. Rodriguez,
Captain, U.S. Coast Guard, Captain of the Port Charleston.

[FR Doc. 2014-14706 Filed 6-23-14; 8:45 am]

BILLING CODE 9110-04-P